DEPARTMENT OF HEALTH AND HUMAN SERVICES

Centers for Disease Control and Prevention

[30 DAY-20-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Preventing Latex Allergy Among Non-Healthcare Workers—New—The mission of the National Institute for Occupational Safety and Health (NIOSH), Centers for Disease Control and Prevention (CDC) is to promote “safety and health at work for all people through research and prevention.” In order to carry out this goal effectively and efficiently, NIOSH and the occupational safety and health community implemented the National Occupational Research Agenda (NORA) in 1996. NORA is the first step in an ongoing, synergistic effort by the various institutions of the occupational safety and health community to identify and research the most important workplace safety and health issues. In order to accomplish the NORA objectives in preventing latex allergy, NIOSH is conducting health communication research to determine the most effective means of communicating the NIOSH recommendations for preventing latex allergy.

Allergy to natural rubber latex (NRL) has become a significant health risk among healthcare workers and other persons using latex gloves in the course of their work [NIOSH 1997; Turjanmaa et. al. 1996; Watts et. al. 1998]. A number of studies indicate that levels of latex sensitization in healthcare workers ranges from 5-12 percent [Liss and Sussman 1999]. One study indicated that the prevalence of latex sensitivity among 1,351 healthcare workers was 12.1 percent; and of that same 1,351 workers, 60 percent reported work-related symptoms [Liss et. al. 1997]. Despite the numerous studies performed in this population, little is known about the non-healthcare worker occupations. Occupational asthma and symptoms of latex allergy have been reported in select groups including hairdressers, workers at a latex glove manufacturing plant, and workers at a latex doll manufacturing plant. Prevalence rates up to 11 percent have been reported in these studies (11 percent and 9 percent, respectively, in the latter two studies) [Orfan et. al. 1994; Tarlo et. al. 1990; van der Walle and Brunsveld 1995). Although the prevalence rate for other non-healthcare worker populations is unknown, these studies indicate that workers exposed to latex gloves or products containing latex may also be at risk for latex allergy.

In 1997, NIOSH published an ALERT concerning the risk of latex allergy in the workplace [NIOSH 1997]. This Alert provided specific recommendations to workers for the prevention of latex allergy and was distributed to workplaces most likely to contain latex exposure (i.e., care establishments). Since occupations reporting less frequent use of latex gloves or exposure to latex-containing products may also be at risk for latex allergy, it is important to design appropriate health interventions for these occupational groups as well. Therefore, the overall objective of this study is to develop a health intervention that 1) effectively communicates the NIOSH recommendations for preventing latex allergy to the appropriate, at-risk non-healthcare worker occupations and 2) promotes the use of the recommendations through corresponding attitude and behavior change.

To accomplish this task, we propose to conduct a systematic, communication theory-based set of studies with a brochure adapted from the NIOSH Alert on latex allergy as the primary attitude concept. These experiments will be targeted at five non-healthcare worker occupational groups (hair dressers, daycare workers, police officers, food handlers, and housekeeping personnel). The framing postulate of the Prospect Theory and the Elaboration Likelihood Model will serve as the basis of the study [Tversky and Kahneman 1981; Petty and Cacioppo 1986] in which the combined effect of message framing and message expectancy on elaboration likelihood will be assessed. Specifically, participants will be randomly assigned to the conditions of a 2 (message framing: positive vs. negative), 2 (message expectancy: positive vs. negative), 2 (argument quality: strong vs. stronger) factorial design and given a pretest, brochure with the appropriate test variables, and post test. In addition, the participants will be surveyed for a history of latex glove usage, allergy, latex allergy, or dermatitis in either themselves or their family members to determine if a history of allergy or glove usage predisposes them to be highly involved with the subject of latex allergy. Finally, the effect of the intervention on receiver attitude toward latex allergy and corresponding use of NIOSH recommendations one month following the intervention will be determined. The study will include several phases. First, effective communication variables will be identified in the pretesting phase and incorporated into test brochures. In addition, pre-test and post-test surveys will be pretested. A total of 160 participants will be recruited for the pretesting phase. In the second phase, the pilot test, the effect of message framing and message expectancy on elaboration likelihood will be assessed in a small scale, laboratory study. This pilot test will be conducted with a sample of university students (N = 300) who occasionally to intermittently wear latex gloves. Conducting the first study in the laboratory setting allows for consistent control over external variables during message pretesting, implementation, and testing. The knowledge obtained from this study will be used to improve the versions of the brochure to be used in the last phase, one study for each of the five occupational groups (a total of five studies). The goal of each study will be to determine the effect of message framing and message expectancy manipulations in increasing the receiver's elaboration about latex allergy prevention among five different occupational groups (N = 300 per group or 1,500 total participants). In addition, change in attitude and behavior will be assessed one month after exposure to the brochure. These combined studies will test the use of message framing and contrasts in message expectancy in applied health communication research. Specifically, the studies will assess the effectiveness of these communication variables in influencing attitude, intentions, and behavior concerning the prevention of latex allergy. The results and conclusions drawn from this project will be used to develop a health communication template based on message framing and increased systematic message processing.

Overall, this study will contribute significantly to the knowledge concerning application of the message framing theory, provide NIOSH with specific recommendations for effective health communication, and provide a template for future health interventions. In addition, this study will identify effective methods of communicating health and safety messages to those populations not normally reached by NIOSH.

The total annual burden for this data collection is 1,820 hours.

Respondents | Phase | Number of Respondents | Number of Responses/Respondent | Average Burden per Response
Daycare workers, housekeeping personnel, foodservice personnel, hairdressers, police officers | Pretest Phase 1 | 150 | 1 | 60/60
Daycare workers, housekeeping personnel, foodservice personnel, hairdressers, police officers | Pretest Phase II | 10 | 1 | 120/60
Daycare workers, housekeeping personnel, foodservice personnel, hairdressers, police officers | Pilot Test | 300 | 1 | 30/60
Daycare workers, housekeeping personnel, foodservice personnel, hairdressers, police officers | Main Study | 1,500 | 2 | 15/60
Daycare workers, housekeeping personnel, foodservice personnel, hairdressers, police officers | Followup Study | 1,500 | 1 | 30/60

Dated: March 28, 2001.
Nancy E. Cheal,
Acting Associate Director for Policy, Planning, and Evaluation, Centers for Disease Control and Prevention (CDC).

[FR Doc. 01-8096 Filed 4-2-01; 8:45 am]

BILLING CODE 4163-18-P